DEPARTMENT OF TRANSPORTATION

Maritime Administration

Marine Transportation System National Advisory Council

AGENCY: Maritime Administration, DOT.

ACTION: Notice of request for applications.

SUMMARY: The Maritime Administration (MarAd) is seeking applications for membership on the Marine Transportation System National Advisory Council (MTSNAC). The Council advises and makes recommendations to the Secretary of Transportation (Secretary) via the Maritime Administrator on impediments to the effective use and expansion of America's Marine Highways; waterways and ports, and their intermodal, road, rail, and marine highway connections; shipbuilding capacity; and guidelines for the development of a national freight policy from a marine transportation perspective.

DATES: MTSNAC applications should be received on or before October 18, 2013.

ADDRESSES: Submit your application by mail, email, or facsimile to MarAd-MTSNAC Designated Federal Officer, Room W21-310, U.S. Department of Transportation, 1200 New Jersey Avenue SE., Washington, DC 20590. Email: nac.marad@dot.gov. Fax: (202) 366-6988.

FOR FURTHER INFORMATION CONTACT: Mr. Richard Lolich, MTSNAC Designated Federal Officer, Maritime Administration, 1200 New Jersey Avenue SE., Room W21-310, Washington, DC 20590, Richard.Lolich@dot.gov, Phone: (202)-366-0704, Fax: 202-366-6988.

SUPPLEMENTARY INFORMATION: The MTSNAC is an advisory committee established in accordance with the provisions of the Federal Advisory Committee Act (FACA) 5 U.S.C. App. 2 (Public Law 92-463) and the Energy Independence and Security Act of 2007 (Public Law 110-140). The MTSNAC advises, consults with, reports to, and makes recommendations to the Secretary on matters relating to the Marine Transportation System. Such matters may include, but are not limited to:

• Impediments that hinder the effective use and expansion of America's Marine Highways, and the expanded use of the marine transportation system for freight and passengers;

• Waterways and ports, and their intermodal road, rail, and marine highway connections and actions required to meet current and future national transportation system integration needs;

• Strategy, policy and goals to ensure an environmentally responsible and safe system that improves the global competitiveness and national security of the U.S.;

• Guidelines for the development of a national freight policy from a marine transportation perspective; and

• Such other matters, related to those above, that the Secretary or sponsor may charge the Council with addressing.

The full council normally meets at least two to three times per fiscal year. The MTSNAC subcommittees may hold meetings and teleconferences more frequently, as needed. It may also meet for extraordinary purposes.

Application Request

If you are interested in applying to become a member of the Council, you may request an application by contacting the MTSNAC Designated Federal Officer [See the section entitled FOR FURTHER INFORMATION CONTACT listed above]. When requesting the application, please include your contact information so that we may send the application form to you. Once you have completed your application, send it to Mr. Richard Lolich, Designated Federal Officer (DFO) of the Marine Transportation System National Advisory Council in time for it to be received by MarAd on or before October 18, 2013.

Position Information

Nine (9) positions will be filled. Individuals with experience in one or more of the following sectors of the marine transportation industry are encouraged to apply:

• Ports and Terminal Operators.

• Shippers.

• Vessel Operators.

• Non-Marine Transportation Providers.

• Metropolitan Planning Organizations and State DOTs.

• Shipbuilders.

• Labor and Workforce Development.

• Academia.

Prohibitions

Registered lobbyists are not eligible to serve on federal advisory committees. Registered lobbyists are lobbyists required to comply with provisions contained in the Lobbying Disclosure Act of 1995 (Public Law 110-81, as amended).

Period or Service and Expense Reimbursement

Each MTSNAC member serves for a term of two years. Members may serve consecutive terms. All members serve at their own expense and receive no salary. While attending meetings or when otherwise engaged in committee business, members will be reimbursed for travel and per diem expenses as permitted under applicable Federal Travel Regulations.

Authority: 5 U.S.C. app. 2; 41 CFR parts 101-6 and 102-3; DOT Order 1120.3B.

By Order of the Maritime Administrator:
Dated: September 12, 2013.
Julie Agarwal,
Secretary, Maritime Administration.

[FR Doc. 2013-22680 Filed 9-17-13; 8:45 am]

BILLING CODE 4910-81-P